DEPARTMENT OF LABOR

Employment and Training Administration

[TA-W-82,189; TA-W-82,189A]

Verizon Business Networks Services, Inc., Senior Analysts-Order Management, Voice Over Internet Protocol, Small And Medium Business, Tampa, Florida; Verizon Business Networks Services, Inc., Senior Coordinator-Order Management, Voice Over Internet Protocol, Small And Medium Business, San Antonio, TX; Amended Certification Regarding Eligibility To Apply for Worker Adjustment Assistance

In accordance with Section 223 of the Trade Act of 1974, as amended (“Act”), 19 U.S.C. 2273, the Department of Labor issued a Certification of Eligibility to Apply for Worker Adjustment Assistance on January 18, 2013, applicable to workers of Verizon Business Networks Services, Inc., Senior Analysts-Order Management, Voice Over Internet Protocol, Small and Medium Business, Tampa, Florida. The workers supplied order management services to small and medium business customers relating to the firm's Voice Over Internet Protocol (“VOIP”) products. The notice was published in the Federal Register on February 6, 2013 (78 FR 8592).

In response to new information received during the investigation of petition number TA-W-82,256, the Department reviewed this certification for workers of the subject firm. Information shows that the Senior Coordinator-Order Management, Voice Over Internet Protocol, Small and Medium Business of Verizon Business Networks Services, Inc., San Antonio, Texas operates the same as and in conjunction with Senior Analysts-Order Management, Voice Over Internet Protocol, Small and Medium Business Tampa, Florida, and both experienced worker separations during the relevant time period.

Based on these findings, the Department is amending this certification to include workers of the Senior Coordinator-Order Management, Voice Over Internet Protocol, Small and Medium Business of Verizon Business Networks Services, Inc., San Antonio, Texas.

The intent of the Department's certification is to include all workers of the subject firm who were adversely affected by the shift in order management services to a foreign country.

The amended notice applicable to TA-W-82,189 is hereby issued as follows:

“All workers from Verizon Business Network Services, Inc., Senior Analysts-Order Management, Voice Over Internet Protocol, Small and Medium Business, Tampa, Florida (TA-W-82,189) and Verizon Business Network Services, Inc., Senior Coordinator-Order Management, Voice Over Internet Protocol, Small and Medium Business, San Antonio, Texas (TA-W-82,189A), who became totally or partially separated from employment on or after November 28, 2011 through January 18, 2015, and all workers in the group threatened with total or partial separation from employment on the date of certification through two years from the date of certification, are eligible to apply for adjustment assistance under Chapter 2 of Title II of the Trade Act of 1974, as amended.”

Signed at Washington, DC this 14th day of February 2013.
Michael W. Jaffe,
Certifying Officer, Office of Trade Adjustment Assistance.

[FR Doc. 2013-04951 Filed 3-4-13; 8:45 am]

BILLING CODE 4510-FN-P